DEPARTMENT OF COMMERCE

National Oceanic and Atmospheric Administration

[I.D. 052400C]

Endangered and Threatened Species; Notice of Availability for the Draft Recovery Plan for Johnson's Seagrass

AGENCY: National Marine Fisheries Service (NMFS), National Oceanic and Atmospheric Administration (NOAA), Commerce.

ACTION: Notice of availability of a draft recovery plan; request for comments; correction.

SUMMARY: In the notice of availability of the draft recovery plan for Johnson's seagrass, published on June 26, 2000, the mailing address for comments was inadvertently omitted. Also, the notice did not include a web site address for accessing the draft recovery plan. This document corrects the notice of availability.

DATES: Comments on the draft recovery plan must be received no later than 5 p.m., Eastern standard time, on August 25, 2000.

ADDRESSES: Written comments on the draft recovery plan should be addressed to Mr. Charles Oravetz, Assistant Regional Administrator, Protected Resources Division, NMFS, Southeast Regional Office, 9721 Executive Center Drive North, St. Petersburg, Florida 33702-2432. In addition to being available from Layne Bolen, Protected Resources Division, NMFS, 9721 Executive Center Drive North, St. Petersburg, FL 33702-2439; the draft plan can also be downloaded from the following site: http://www.nmfs.gov/prot_res/other/jsrecover.pdf. Comments may be sent via facsimile (fax) to 727-570-5517, but they will not be accepted if submitted via e-mail or Internet.

FOR FURTHER INFORMATION CONTACT: Layne Bolen at 850-234-6541 ext 237, Dr. Judson Kenworthy at 252-728-8750, or Marta Nammack at 301-713-1401 ext 116, or send a request via electronic mail to jsg.info@noaa.gov.

SUPPLEMENTARY INFORMATION:

Need for Correction

In the notice of availability of the draft recovery plan for Johnson's seagrass, published on June 26, 2000 (65 FR 39369), the mailing address for comments was inadvertently omitted. Also, the notice did not include a web site address for accessing the draft recovery plan. This document provides this information (see ADDRESSES).

Authority: 16 U.S.C. 1531-1543 et seq.

Dated: June 29, 2000.
Andrew A. Rosenberg,
Deputy Assistant Administrator for Fisheries, National Marine Fisheries Service.

[FR Doc. 00-17113 Filed 7-5-00; 8:45 am]

BILLING CODE 3510-22-F